SMALL BUSINESS ADMINISTRATION

Advisory Committee on Veterans Business Affairs; Public Meeting

Pursuant to the Federal Advisory Committee Act, Appendix 2 of Title 5, United States Code, Public Law 92-463, notice is hereby given that the U.S. Small Business Administration (SBA) will hold a public federal meeting on Tuesday, July 24, 2007, starting at 9 a.m. until 5 p.m. The meeting will take place at the U.S. Small Business Administration, 409 3rd Street, SW., Eisenhower Conference Room, Side B, Washington, DC 20416. The purpose of the meeting is to discuss SBA's services, programs and outreach for veterans and service-disabled veterans. Anyone wishing to attend must contact Cheryl Clark, Program Liaison, Office of Veterans Business Development at (202) 205-6773 or e-mail cheryl.clark@sba.gov.

Matthew Teague,
Committee Management Officer.

[FR Doc. E7-14122 Filed 7-20-07; 8:45 am]

BILLING CODE 8025-01-P